DEPARTMENT OF THE INTERIOR

Fish and Wildlife Service

[FWS-HQ-ES-2017-N037; FXES11130900000-178-FF09E32000]

Agency Information Collection Activities: OMB Control Number 1018-0095; Endangered and Threatened Wildlife, Experimental Populations

AGENCY: Fish and Wildlife Service, Interior.

ACTION: Notice; request for comments.

SUMMARY: We (U.S. Fish and Wildlife Service, Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2017. We may not conduct or sponsor and you are not required to respond to a collection of information unless it displays a currently valid OMB control number.

DATES: To ensure that we are able to consider your comments on this IC, we must receive them by July 31, 2017.

ADDRESSES: Send your comments on the IC to the Service Information Collection Clearance Officer, U.S. Fish and Wildlife Service, 5275 Leesburg Pike, MS: BPHC, Falls Church, VA 22041-3803 (mail); or info_coll@fws.gov (email). Please include “1018-0095” in the subject line of your comments.

FOR FURTHER INFORMATION CONTACT: Service Information Collection Clearance Officer, at info_coll@fws.gov (email) or (703) 358-2503 (telephone).

SUPPLEMENTARY INFORMATION:

I. Abstract

Section 10(j) of the Endangered Species Act of 1973 (ESA), as amended (16 U.S.C. 1531 et seq.), authorizes the Secretary of the Interior to establish experimental populations of endangered or threatened species. Because individuals of experimental populations are protected under the ESA, the information we collect is important for monitoring the success of reintroduction and recovery efforts. This is a nonform collection (meaning there is no designated form associated with this collection). Information collection requirements for experimental populations of vertebrate endangered and threatened species are found in 50 CFR 17.84. We collect three categories of information, which are specific to each species and are described within 50 CFR 17.84:

(1) General take or removal. Take is defined by the ESA as “[to] harass, harm, pursue, hunt, shoot, wound, kill, trap, capture, or collect, or to attempt to engage in any such conduct.” In this IC, take most commonly takes the form of human-related mortality, including unintentional taking incidental to otherwise lawful activities (e.g., highway mortalities); animal husbandry actions authorized to manage the population (e.g., translocation or providing aid to sick, injured, or orphaned individuals); take in defense of human life; take related to defense of property (if authorized); or take in the form of authorized harassment.

(2) Specimen collection, recovery, or reporting of dead individuals. This information documents incidental or authorized scientific collection. Most of the information collected addresses the reporting of sightings of experimental population animals or the inadvertent discovery of an injured or dead individual.

(3) Depredation-related take. Involves take for management purposes where livestock depredation is documented, and may include authorized harassment or authorized lethal take of experimental population animals in the act of attacking livestock. See 50 CFR 17.84 for specific provisions of harassment for each species within this section.

The information that we collect includes:

• Name, address, and phone number of reporting party.

• Species involved.

• Type of incident.

• Quantity of take.

• Location and time of the reported incident.

• Description of the circumstances related to the incident.

Service recovery specialists use this information to determine the success of reintroductions in relation to established recovery plan goals for the experimental populations of vertebrate endangered and threatened species involved. In addition, this information helps us to assess the effectiveness of control activities in order to develop better means to reduce problems with livestock for those species where depredation is a problem.

II. Data

OMB Control Number: 1018-0095.

Title: Endangered and Threatened Wildlife, Experimental Populations, 50 CFR 17.84.

Service Form Number(s): None.

Type of Request: Extension of a currently approved collection.

Description of Respondents: Individuals and households, private sector, and State/local/tribal governments.

Respondent's Obligation: Voluntary.

Frequency of Collection: On occasion.

Requirement | Annual number of respondents | Number of responses each | Total annual responses | Completion time per response (hours) | Total annual burden hours
Notification: General Take or Removal
Individuals | 12 | 1 | 12 | .5 | 6
Private Sector | 7 | 1 | 7 | .5 | 4
Government | 29 | 1 | 29 | .5 | 15
Notification: Depredation-Related Take
Individuals | 25 | 1 | 25 | .5 | 13
Private Sector | 2 | 1 | 2 | .5 | 1
Government | 9 | 1 | 9 | .5 | 5
Notification: Specimen Collection
Individuals | 3 | 1 | 3 | .5 | 2
Private Sector | 2 | 1 | 2 | .5 | 1
Government | 16 | 1 | 16 | .5 | 8
Totals | 105 |  | 105 |  | 55

Estimated Annual Nonhour Burden Cost: The only foreseeable nonhour burden cost to respondents would be a small cost for making a telephone call or sending a facsimile. However, we do not expect that this would occur often and any costs would be negligible.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

IV. Authorities

The authorities for this action are the Endangered Species Act of 1973, as amended (16 U.S.C. 1531 et seq.), and the Paperwork Reduction Act of 1995 (44 U.S.C. 3501 et seq.).

Dated: May 25, 2017.
Madonna L. Baucum,
Information Collection Clearance Officer, U.S. Fish and Wildlife Service.

[FR Doc. 2017-11169 Filed 5-30-17; 8:45 am]

BILLING CODE 4333-15-P